SOCIAL SECURITY ADMINISTRATION

20 CFR Part 404

RIN 0960-AF33

Revised Medical Criteria for Evaluating Immune System Disorders

Corrections

In proposed rule document 06-6655 beginning on page 44432 in the issue of Friday, August 4, 2006, make the following corrections:

Appendix 1 to Subpart P of Part 404—[Corrected]

1. On page 44452, in Appendix 1 to Subpart P of Part 404, in the first full paragraph, in the ninth line, “mmᵉ” should read “mm³”.

2. On the same page, in the same appendix, in the same paragraph, in the 12th line, “alone” should read “alone”.

3. On the same page, in the same appendix, in the same paragraph, in the 18th line, “alone ” should read“alone”.

[FR Doc. C6-6655 Filed 8-14-06; 8:45 am]

BILLING CODE 1505-01-D